DEPARTMENT OF HEALTH AND HUMAN SERVICES

Office of Inspector General

Program Exclusions: October 2006

AGENCY: Office of Inspector General, HHS.

ACTION: Notice of program exclusions.

Important Announcement: The Office of Inspector General (OIG) will discontinue publication of monthly exclusion actions in the Federal Register in 1 month. Downloadable files of exclusion actions taken each month are available on the OIG's Web site. In addition, the website has a downloadable data file and an online searchable database containing all exclusion actions currently in effect. This data is called the List of Excluded Individuals/Entities (LEIE) and is located at http://oig.hhs.gov. Click on Exclusions Database to access the LEIE and other important information about the OIG's exclusion program.

During the month of October 2006, the HHS Office of Inspector General imposed exclusions in the cases set forth below. When an exclusions is imposed, no program payment is made to anyone for any items or services(other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
PROGRAM-RELATED CONVICTIONS
ANTOON, PATRICK | ANTHONY, TX | 11/20/2006
BABER, VICTOR | RUSHVILLE, MO | 11/20/2006
BONNEAU, RICHARD | N DARTMOUTH, MA | 11/20/2006
BUTLER, BRENDA | BATON ROUGE, LA | 11/20/2006
CROUCH, JANET | ATCHISON, KS | 11/20/2006
CROUCH, MARK | AYER, MA | 11/20/2006
DE ALBA, CARLOS | SANTA FE SPRINGS, CA | 11/20/2006
DHAFIR, PRISCILLA | FAYETTEVILLE, NY | 11/20/2006
DHAFIR, RAFIL | FAIRTON, NJ | 11/20/2006
GRUBESSI, WILLIAM | WESTBURY, NY | 11/20/2006
GUILLEN, JASON | SAN ANTONIO, TX | 11/20/2006
GUILLEN, ROXANNE | SAN ANTONIO, TX | 11/20/2006
HARRIS, PAUL | BEAUMONT, TX | 11/20/2006
HAWTHORNE, LORINE | BRYAN, TX | 11/20/2006
KATZ, ALAN | MANUET, NY | 11/20/2006
LEVY, ALLEN | FAIRFIELD, CT | 11/20/2006
MAUSKAR, ANANT | HOUSTON, TX | 11/20/2006
MCCLURE, SHIRELLE | COLUMBUS, OH | 11/20/2006
MCFARLIN, MARY | KINGSTREE, SC | 11/20/2006
MORGAN, LINDA | TALLAHASSEE, FL | 11/20/2006
NEW BEDFORD PHARMACY, INC | N DARTMOUTH, MA | 11/20/2006
OGBA, IFEANYI | MAGNOLIA, AR | 11/20/2006
OGBA, IGNATIUS | OAKDALE, LA | 11/20/2006
PAOLINI, SHEILA | WILLIAMSVILLE, NY | 11/20/2006
PASQUINELLI, ARTHUR | SCHERERVILLE, IN | 11/20/2006
PATEL, PIYUSH | OKLAHOMA CITY, OK | 11/20/2006
RECINOS, MARIA | LYNWOOD, CA | 11/20/2006
ROHE, PAUL | GREEN BROOK, NJ | 11/20/2006
RUSSELL, PAMELA | GALENA PARK, TX | 11/20/2006
TOWNSEND, SANDRA | RICHMOND, VA | 11/20/2006
WISZOWATY, DEBRA | GRIFFITH, IN | 11/20/2006
FELONY CONVICTION FOR HEALTH CARE FRAUD
ANODIDE, PAUL | TRENTON, NJ | 11/20/2006
HEATH, DORIS | VICKSBURG, MS | 11/20/2006
MCALLISTER, MARY | WINIFRED, MT | 11/20/2006
FELONY CONTROLLED SUBSTANCE CONVICTION
BRAUD, VANESSA | VERO BEACH, FL | 11/20/2006
SCHLESINGER, RICHARD | TIMONIUM, MD | 11/20/2006
SMITH, ALEXANDER | BOLEY, OK | 11/20/2006
SMITH, REBECCA | HOLLYWOOD, FL | 11/20/2006
PATIENT ABUSE/NEGLECT CONVICTIONS
BARDGETT, JOHN | NAHANT, MA | 11/20/2006
CAMPUZANO, MARIO | LONG BEACH, CA | 11/20/2006
DAGURO, CLAUDINE | KANEOHE, HI | 11/20/2006
PINTO, LUIS | IRVINE, CA | 11/20/2006
TARIFARD, SEYED | STOCKTON, CA | 11/20/2006
LICENSE REVOCATION/SUSPENSION/SURRENDER
AARON, BARBARA | JASPER, AL | 11/20/2006
ACEVES, XOCHITL | OXNARD, CA | 11/20/2006
ARREDONDO, KATHY | CLOVIS, CA | 11/20/2006
ASCENCIO, ROSA | SPARKS, NV | 11/20/2006
ASHLEY, TERESA | SHELBYVILLE, KY | 11/20/2006
AVERY, SHERYL | SENECA FALLS, NY | 11/20/2006
BAKER, NANCY | DENVER, CO | 11/20/2006
BAUTISTA, ALAN | NEW YORK, NY | 11/20/2006
BILBRO, MARY | BEAVER DAM, KY | 11/20/2006
BLANTON, NATHAN | KNOXVILLE, TN | 11/20/2006
BOBADILLA, ADELLA | PHOENIX, AZ | 11/20/2006
BOLING, VICKIE | OWENSBORO, KY | 11/20/2006
BRAZIL, TINA | PHOENIX, AZ | 11/20/2006
BROOKMAN, HARVEY | YARDLEY, PA | 11/20/2006
BROWN, SANDRA | LOUISVILLE, KY | 11/20/2006
BURKE, WILLIAM | NEW VERNON, NJ | 11/20/2006
BYRD, PATRICIA | BOULEVARD, CA | 11/20/2006
BYSTROM, MICHAEL | MODESTO, CA | 11/20/2006
CARRILLO, CAROL | MESA, AZ | 11/20/2006
CASTRO, ERIK | SUN VALLEY, NV | 11/20/2006
CAULK, PAULA | LOUISVILLE, KY | 11/20/2006
CLARK, SHARRON | FT WORTH, TX | 11/20/2006
CONNEL, ALLAN | SAN DIEGO, CA | 11/20/2006
COPELAND, KATHY | MAYFIELD, KY | 11/20/2006
COREY, DARYL | ELMIRA, NY | 11/20/2006
COVARRUBIAS, SARA | TUCSON, AZ | 11/20/2006
CREGAR, STACY | RIVERSIDE, CA | 11/20/2006
CUEVAS, ROSEMARIE | LAS VEGAS, NV | 11/20/2006
CUNNINGHAM, JAMES | YAKIMA, WA | 11/20/2006
CUPIT, DENNIS | MARTIN, GA | 11/20/2006
DAVIS, KATHLEEN | SANTA ROSA, CA | 11/20/2006
DEJAYNES, SHERRY | KINGMAN, AZ | 11/20/2006
DELK, KIMBERLY | LEXINGTON, KY | 11/20/2006
DI JOSEPH, AMY | BUFFALO, NY | 11/20/2006
DURAN, PAUL | TOPANGA, CA | 11/20/2006
FARNEY, FRANCES | TUCSON, AZ | 11/20/2006
FAULKNER, PAULA | CRESTWOOD, KY | 11/20/2006
FORD, TONY | HAMPTON, VA | 11/20/2006
FRAZIER, CANDACE | HUNTSVILLE, AL | 11/20/2006
FRENCH, JACKLYN | ELIZABETHTOWN, KY | 11/20/2006
GAMBON, ALONA | OXNARD, CA | 11/20/2006
GAMMILL, JOAN | ANNAPOLIS, MD | 11/20/2006
GOLEY, CHRISTIAN | LOUISVILLE, KY | 11/20/2006
GOODALE, FRANK | WELLS, ME | 11/20/2006
GRAHAM, DONALD | PITTSBURGH, PA | 11/20/2006
GREISS, TAREK | DULUTH, GA | 11/20/2006
HAMPTON, KIMBERLY | LAUREL BLOOMERY, TN | 11/20/2006
HARLING, THOMAS | BOULDER CITY, NV | 11/20/2006
HARMON, JOHN | VICKSBURG, MS | 11/20/2006
HARRELL, SAMI | OWENSBORO, KY | 11/20/2006
HAYS, JEFFREY | BOWLING GREEN, KY | 11/20/2006
HERNANDEZ, MAIDA | CAMP VERDE, AZ | 11/20/2006
HERON, JOHN | PLANO, TX | 11/20/2006
HOLMES, BARBARA | PHOENIX, AZ | 11/20/2006
HOOKANO, DONNA | LAHAINA, HI | 11/20/2006
HORTON, MARCIA | TUSCALOOSA, AL | 11/20/2006
HURLEY, STEVEN | POWAY, CA | 11/20/2006
ISAAC, PATRICIA | HOLLY HILL, FL | 11/20/2006
JACKSON, LEONDRAS | RIVERSIDE, CA | 11/20/2006
JEFFREYS, CHARLENE | CLIFTON, CO | 11/20/2006
JOHNSON, LORI | GADSDEN, AL | 11/20/2006
JONES, BECKY | MOREHEAD CITY, NC | 11/20/2006
JONES, ERIC | PALM SPRINGS, CA | 11/20/2006
KLEBER, DEENA | SEYMOUR, IN | 11/20/2006
LABARKO, JACKIE | WINDBER, PA | 11/20/2006
LEISTER, GLENN | HANOVER, PA | 11/20/2006
LONG, STACEY | WEST LAFAYETTE, IN | 11/20/2006
LOPEZ, JOSE | BLOOMFIELD, NJ | 11/20/2006
LYTTON, MARY | FLOYD, VA | 11/20/2006
MASTERS, DAWN | MOREHEAD, KY | 11/20/2006
MCATEE, DENISE | SHERRARD, IL | 11/20/2006
MCGILL, JOHN | FOLEY, AL | 11/20/2006
MCNEAL, TANISHA | BRANDENTON, FL | 11/20/2006
MEDINA, ANGELA | HOUSTON, TX | 11/20/2006
MORGAN, MICHAEL | MARION, NC | 11/20/2006
MOSKOWITZ, MYRON | UNION, NJ | 11/20/2006
MUSCARELLA, JILL | MANCHESTER, NH | 11/20/2006
NOBLIT, MICHAEL | LORETTO, TN | 11/20/2006
NORTON, ROSARIO | MESA, AZ | 11/20/2006
ORAFU, IJEOMA | MASON, OH | 11/20/2006
OWENS, ANDREA | RICEVILLE, TN | 11/20/2006
PAULSON, NICOLE | SAN DIEGO, CA | 11/20/2006
PEAVY, SOPHIA | FORT PIERCE, FL | 11/20/2006
PEREZ, FELIPA | ALAMEDA, CA | 11/20/2006
PETTIT, DENISE | POMPANO BEACH, FL | 11/20/2006
POTTER, KAREN | ROAN MOUNTAIN, TN | 11/20/2006
REDFORD, MELISSA | SPRING HILL, FL | 11/20/2006
REED, CARLIE | SAN BERNARDINO, CA | 11/20/2006
REGAILA, ADEL | JACKSONVILLE, FL | 11/20/2006
REITZ, KRISTOPHER | LEXINGTON, KY | 11/20/2006
REYNOLDS, DEBBYE | HYATTSVILLE, MD | 11/20/2006
RIEDEMAN, ANTOINETTE | MESA, AZ | 11/20/2006
ROBBINS, PAMELA | BULLHEAD, AZ | 11/20/2006
ROTOLO, JOSEPH | PATCHOGUE, NY | 11/20/2006
RYAN, COLLEEN | TUCSON, AZ | 11/20/2006
SCHAAL, TRACY | IJAMSVILLE, MD | 11/20/2006
SCHLACHTER, ANDREA | CRANFORD, NY | 11/20/2006
SENDER, PAUL | MONSEY, NY | 11/20/2006
SPRAGUE, MARGARET | LA JOLLA, CA | 11/20/2006
STEPHENSON, KENDALL | MESA, AZ | 11/20/2006
STOVALL, JENNIE | HAINES CITY, FL | 11/20/2006
TREMO, GREGORY | CARROLLTON, VA | 11/20/2006
TRUONG, HANH | MANGUM, OK | 11/20/2006
TURNER, DANIEL | KNOXVILLE, TN | 11/20/2006
VALDEZ, LOLITA | NORTH LAS VEGAS, NV | 11/20/2006
VALDIVIESO, LAURETTA | LAKE ARIEL, PA | 11/20/2006
VALENA, LOWELLA | UNION CITY, CA | 11/20/2006
WALDROP, LINDA | HORNSBY, TN | 11/20/2006
WALKER, EDNA | TAMPA, FL | 11/20/2006
WALLACE, ETHEL | MEMPHIS, TN | 11/20/2006
WARREN, LYNDA | HUDSON, FL | 11/20/2006
WELLSPEAK, LISA | CHICOPEE, MA | 11/20/2006
WILSON, CAROLYN | BESSEMER, AL | 11/20/2006
WRIGHT, VICKY | COMPTON, NH | 11/20/2006
ZIBELMAN, DANA | PHILADELPHIA, PA | 11/20/2006
FEDERAL/STATE EXCLUSION/SUSPENSION
ALTIMA TRANSPORTATION, LLC | BROOKLYN, NY | 11/20/2006
BYERS, FAYE | HILLSIDE, NJ | 11/20/2006
BYERS, RAYMOND | HILLSIDE, NJ | 11/20/2006
HAND, EVELYN | PRINCE GEORGE, VA | 11/20/2006
R&B MEDICAL TRANSPORTATION | HILLSIDE, NJ | 11/20/2006
FRAUD/KICKBACKS/PROHIBITED ACTS/SETTLEMENT AGREEMENT
JUSTIN MEDICAL | BIDWELL, OH | 4/7/2006
MAY, TERRY | BIDWELL, OH | 4/7/2006
OWNED/CONTROLLED BY EXCLUDED/CONVICTED INDIVIDUAL
CHANNELVIEW LUNG & REHABILITATION, INC | SUGAR LAND, TX | 11/20/2006
RGR MEDICAL MANAGEMENT CORP | MIAMI, FL | 11/20/2006
WMC NWH, PA | SUGAR LAND, TX | 11/20/2006
DEFAULT ON HEAL LOAN
ABDUR-RAHIM, SHABIBUDHEEN | DANVILLE, IL | 11/20/2006
DANIELS, PETER | SAN JOSE, CA | 11/20/2006
DOOLEY, CAMBRAY | LEXINGTON, SC | 11/20/2006
HASHEMI, KEYVAN | SAN JOSE, CA | 11/20/2006
LEE, SIMON | SAN FRANCISCO, CA | 11/20/2006
SHARAF, NISSAN | LOS ANGELES, CA | 11/20/2006

Dated: November 1, 2006.
Maureen R. Byer,
Director, Exclusions Staff, Office of Inspector General.

[FR Doc. E6-18758 Filed 11-6-06; 8:45 am]

BILLING CODE 4152-01-P